DEPARTMENT OF STATE

[Public Notice 9908]

Advisory Committee on Historical Diplomatic Documentation—Notice of Cancellation of Previously Scheduled Open Meeting for 2017

Summary: The meeting of the Advisory Committee on Historical Diplomatic Documentation originally scheduled for March 6 and 7, 2017, in Washington, DC at the State Department, 2300 E Street NW., has been canceled. It is expected that the next Historical Advisory Committee (HAC) meeting will be held at the State Department in May.

Further questions can be directed to Julie Fort (FortJL@state.gov) Designated Federal Officer for the HAC.

Julie L. Fort,
Designated Federal Officer, Advisory Committee on Historical Diplomatic Documentation.

[FR Doc. 2017-04094 Filed 3-2-17; 8:45 am]

BILLING CODE 4710-11-P